DEPARTMENT OF TRANSPORTATION

Maritime Administration

Voluntary Intermodal Sealift Agreement (VISA)/Joint Planning Advisory Group (JPAG)

AGENCY: Maritime Administration, DOT.

ACTION: Synopsis of December 5, 2005 meeting with VISA participants.

The VISA program requires that a notice of the time, place, and nature of each JPAG meeting be published in the Federal Register. The program also requires that a list of VISA participants be periodically published in the Federal Register. The full text of the VISA program, including these requirements, is published in 70 FR 55947-55955, dated September 23, 2005.

On December 5, 2005, the Maritime Administration (MARAD) and the U.S. Transportation Command co-hosted a meeting of the VISA JPAG at the Military Sealift Command in Washington, DC. Meeting attendance was by invitation only, due to the nature of the information discussed and the need for a government-issued security clearance. Of the 51 U.S.-flag carrier corporate participants enrolled in the VISA program at the time of the meeting, 15 companies whose vessels were modeled in the Department of Defense's Mobility Capabilities Study (MCS) participated in the meeting. In addition, representatives from MARAD and the Department of Defense attended the meeting.

Richard Haynes, Executive Director for the Military Sealift Command opened the meeting with a welcome to all attendees. Remarks were offered by Earl Boyanton, Jr., Assistant Deputy Under Secretary (Transportation Policy) of the Office of the Under Secretary of Defense, James Caponiti, Associate Administrator for National Security for MARAD and Margaret LeClaire, Deputy Director, Strategy, Plans, Policy and Programs for USTRANSCOM.

Dr. Laura Williams from the Office of the Secretary of Defense (Program Analysis and Evaluation) presented an overview of the overall structure and findings of the Department of Defense's MCS. Following Ms. Williams' overview there was an open dialogue about the utilization of commercial sealift in the MCS. As a result of the discussion, industry participants provided DOD many useful comments and suggestions to consider in future analyses, and indicated a willingness to address future requirements as they emerge.

As of December 5, 2005, the following commercial U.S.-flag vessel operators were enrolled in the VISA program with MARAD: AAA Shipping No. 1 L.L.C.; A Way to Move, Inc.; America Cargo Transport, Inc.; American Auto Carriers, Inc.; American Automar, Inc.; American President Lines, Ltd.; American Roll-On Roll-Off Carrier, LLC; American Shipping Group; APL Marine Services, Ltd.; Beyel Brothers Inc.; Canal Barge Company, Inc.; Central Gulf Lines, Inc.; Cherokee Nation Distributors; Coastal Transportation, Inc.; Columbia Coastal Transport, LLC; CP Ships USA, LLC; CRC Marine Services, Inc.; Crowley Liner Services, Inc.; Crowley Marine Services, Inc.; Farrell Lines Incorporated; Fidelio Limited Partnership; Foss Maritime Company; Horizon Lines, LLC; Laborde Marine Lifts, Inc.; Laborde Marine, L.L.C.; Liberty Shipping Group Limited Partnership; Lockwood Brothers, Inc.; Lynden Incorporated; Maersk Line, Limited; Marine Transport Management; Matson Navigation Company, Inc.; Maybank Navigation Company, LLC; McAllister Towing and Transportation Co., Inc.; Northland Services, Inc.; OSG Car Carriers, Inc.; Pasha Hawaii Transport Lines LLC; Patriot Shipping, L.L.C.; Red River Holdings LLC; Resolve Towing & Salvage, Inc.; Samson Tug & Barge Company, Inc.; SeaTac Marine Services, LLC; Sealift Inc.; Signet Maritime Corporation; Smith Maritime; Stevens Towing Co., Inc.; Strong Vessel Operators LLC (SVO); Superior Marine Services, Inc.; Trailer Bridge, Inc.; TransAtlantic Lines LLC; Troika International, Ltd.; and Waterman Steamship Corporation.

FOR FURTHER INFORMATION CONTACT: Mr. Taylor E. Jones II, Director, Office of Sealift Support, (202) 366-2323.

By Order of the Maritime Administrator.
Dated: December 14, 2005.
Joel C. Richard,
Secretary.

[FR Doc. E5-7639 Filed 12-20-05; 8:45 am]

BILLING CODE 4910-81-P